DEPARTMENT OF ENERGY

Federal Energy Regulatory Commission

[Docket No. EC00-44-000, et al.]

Consolidated Edison Energy, Inc., et al.; Electric Rate and Corporate Regulation Filings

January 19, 2000.

Take notice that the following filings have been made with the Commission:

1. Consolidated Edison Energy, Inc. and Consolidated Edison Energy Massachusetts, Inc.

[Docket No. EC00-44-000]

Take notice that on December 23, 1999, Consolidated Edison Energy, Inc. (CEEI) and Consolidated Edison Energy Massachusetts, Inc. (CEEMI) filed an application for an order authorizing the proposed transfer of CEEI's 100% equity interest in CEEMI to Consolidated Edison Development, Inc.

Comment date: January 31, 2000, in accordance with Standard Paragraph E at the end of this notice.

2. Consolidated Edison, Inc., Northeast Utilities

[Docket No. EC00-49-000]

Take notice that on January 14, 2000, Consolidated Edison, Inc. (CEI) and Northeast Utilities (NU), on behalf of their respective wholly-owned jurisdictional utility subsidiaries, tendered for filing an application pursuant to section 203 of the Federal Power Act and part 33 of the Regulations of the Federal Energy Regulatory Commission (Commission) for an order authorizing and approving CEI's acquisition of NU (the Merger).

Pursuant to the terms of the Agreement and Plan of Merger dated as of October 13, 1999, CEI, an exempt public utility holding company, will acquire all of the outstanding common stock of NU. The Merger Agreement provides for the combination to occur through two simultaneous mergers—the merger of CEI into New CEI, and the merger of an indirect wholly-owned subsidiary of CEI with NU. Upon completion, New CEI will own all of the assets of CEI, and NU will be a wholly-owned subsidiary of New CEI.

Comment date: March 14, 2000, in accordance with Standard Paragraph E at the end of this notice.

3. AES Londonderry, LLC

[Docket No. EG00-78-000]

Take notice that on January 13, 2000, AES Londonderry, LLC (AES Londonderry) tendered for filing an initial rate schedule and request for certain waivers and authorizations pursuant to Section 35.12 of the regulations of the Federal Energy Regulatory Commission (the Commission). The initial rate schedule provides for the sale to wholesale purchasers at market-based rates of the output of an electric power generation facility under development by AES Londonderry in Londonderry, Rockingham County, New Hampshire (the Facility).

AES Londonderry requests that the Commission promptly accept the rate schedule for filing, without suspension, investigation or refund liability, and make the rate schedule effective as of the date that service commences at the Facility.

A copy of the filing was served upon the New Hampshire Public Utilities Commission.

Comment date: May 5, 2000, in accordance with Standard Paragraph E at the end of this notice. The Commission's will limit its consideration of comments to those that concern the adequacy or accuracy of the application.

4. Southwestern Electric Power Company

[Docket No. ER00-1083-000]

Take notice that on January 13, 2000, Southwestern Electric Power Company (SWEPCO) filed a revised Exhibit E to the Power Supply Agreement (PSA), as amended, between SWEPCO and East Texas Electric Cooperative, Inc. (ETEC). Revised Exhibit E updates various information concerning points of delivery under the PSA.

SWEPCO requests an effective date of January 1, 2000 and, accordingly, seeks waiver of the Commission's notice requirements.

Copies of the filing have been served on ETEC and the Public Utility Commission of Texas.

Comment date: February 2, 2000, in accordance with Standard Paragraph E at the end of this notice.

5. Allegheny Energy Service Corporation, on behalf of Monongahela Power Company; The Potomac Edison Company, and West Penn Power Company (Allegheny Power)

[Docket No. ER00-1093-000]

Take notice that on January 14, 2000, Allegheny Energy Service Corporation on behalf of Monongahela Power Company, The Potomac Edison Company and West Penn Power Company (Allegheny Power), filed Supplement No. 68 to add British Columbia Power Exchange Corporation to Allegheny Power Open Access Transmission Service Tariff which has been accepted for filing by the Federal Energy Regulatory Commission in Docket No. ER96-58-000.

The proposed effective date under the Service Agreement is January 13, 2000.

Copies of the filing have been provided to the Public Utilities Commission of Ohio, the Pennsylvania Public Utility Commission, the Maryland Public Service Commission, the Virginia State Corporation Commission, and the West Virginia Public Service Commission.

Comment date: February 3, 2000, in accordance with Standard Paragraph E at the end of this notice.

6. The Dayton Power and Light Company

[Docket No. ER00-1094-000]

Take notice that on January 14, 2000, The Dayton Power and Light Company (Dayton) submitted service agreements establishing TXU Energy Trading Company as customers under the terms of Dayton's Open Access Transmission Tariff.

Copies of this filing were served upon TXU Energy Trading Company and the Public Utilities Commission of Ohio.

Comment date: February 3, 2000, in accordance with Standard Paragraph E at the end of this notice.

7. The Dayton Power and Light Company

[Docket No. ER00-1095-000]

Take notice that on January 14, 2000, The Dayton Power and Light Company (Dayton) submitted service agreements establishing with TXU Energy Trading Company as customers under the terms of Dayton's Open Access Transmission Tariff.

Comment date: February 3, 2000, in accordance with Standard Paragraph E at the end of this notice.

8. Virginia Electric and Power Company

[Docket No. ER00-1096-000]

Take notice that on January 14, 2000, Virginia Electric and Power Company (Virginia Power) tendered for filing the Service Agreement between Virginia Electric and Power Company and The Legacy Energy Group, LLC. Under the Service Agreement, Virginia Power will provide services to The Legacy Energy Group, LLC under the terms of the Company's Revised Market-Based Rate Tariff designated as FERC Electric Tariff (Second Revised Volume No. 4), which was accepted by order of the Commission dated August 13, 1998 in Docket No. ER98-3771-000.

Virginia Power requests an effective date of January 14, 2000.

Copies of the filing were served upon The Legacy Energy Group, LLC, the Virginia State Corporation Commission and the North Carolina Utilities Commission.

Comment date: February 3, 2000, in accordance with Standard Paragraph E at the end of this notice.

9. Tucson Electric Power Company

[Docket No. ER00-1099-000]

Take notice that on January 14, 2000, Tucson Electric Power Company tendered for filing one (1) umbrella service agreement (for short-term firm service) and one (1) service agreement (for non-firm service) pursuant to Part II of Tucson's Open Access Transmission Tariff, which was filed in Docket No. OA96-140-000.

The details of the service agreement are as follows: Umbrella Service Agreement for Short-Term Firm Point-to-Point Transmission Service with Reliant Energy Services, Inc. dated as of January 5, 2000. Service under this agreement has not yet commenced.

Service Agreement for Non-Firm Point-to-Point Transmission Service with Reliant Energy Services, Inc. dated as of January 5, 2000. Service under this agreement has not yet commenced.

Comment date: February 3, 2000, in accordance with Standard Paragraph E at the end of this notice.

10. Ameren Services Company

[Docket No. ER00-1100-000]

Take notice that on January 14, 2000, Ameren Services Company (Ameren) tendered for filing a Service Agreement for Market Based Rate Power Sales between Ameren and NorAm Energy Services, Inc., now Reliant Energy Services, Inc. Ameren asserts that the purpose of the Agreement is to replace the unexecuted Agreement in Docket No. ER98-3886-000 with an executed Agreement.

Ameren requests that the Service Agreement become effective June 23, 1998.

Comment date: February 3, 2000, in accordance with Standard Paragraph E at the end of this notice.

11. Public Service Company of Oklahoma

[Docket No. ER00-1101-000]

Take notice that on January 14, 2000, Public Service Company of Oklahoma (PSO) filed four service agreements under its Coordination Sales and Reassignment of Transmission Rights Tariff.

PSO seeks waiver of the Commission's notice requirements to permit effective dates of October 9, 1999, for the service agreement with Cargill-Alliant, LLC (Cargill), November 12, 1999 for the service agreement with TXU Energy Trading Company (TXU Trading), December 1, 1999 for the service agreement with Southern Company Energy Marketing (Southern Marketing), and December 3, 1999 for the service agreement with Constellation Power Source (CPS).

PSO has mailed a copy of the filing to Cargill, TXU Trading, Southern Marketing, CPS and the Oklahoma Corporation Commission.

Comment date: February 3, 2000, in accordance with Standard Paragraph E at the end of this notice.

12. Alliant Energy Corporate Services Inc.

[Docket No. ER00-1103-000]

Take notice that on January 14, 2000, Alliant Energy Corporate Services Inc. (ALTM) tendered for filing a signed Service Agreement under ALTM's Market Based Wholesale Power Sales Tariff (MR-1) between itself and Western Resources Inc. (WR).

ALTM respectfully requests a waiver of the Commission's notice requirements, and an effective date of January 13, 2000.

Comment date: February 3, 2000, in accordance with Standard Paragraph E at the end of this notice.

13. PacifiCorp

[Docket No. ER00-1104-000]

Take notice that on January 14, 2000, PacifiCorp tendered for filing, in accordance with Part 35 of the Federal Energy Regulatory Commission's (Commission) Regulations (18 CFR Part 35), a Notice of Filing Mutual Netting/Closeout Agreements (Netting Agreements) between PacifiCorp and (1) Colorado Springs Utilities (CSU), (2) Coral Power LLC (Coral), and (3) Northern California Power Agency (NCPA).

Copies of this filing were supplied to the Washington Utilities and Transportation Commission and the Public Utility Commission of Oregon.

Comment date: February 3, 2000, in accordance with Standard Paragraph E at the end of this notice.

14. PacifiCorp

[Docket No. ER00-1105-000]

Take notice that on January 14, 2000, PacifiCorp tendered for filing, in accordance with Part 35 of the Commission's Rules and Regulations (18 CFR Part 35), a fully executed umbrella service agreement with Citizens Power Sales (Citizens ).

Copies of this filing were supplied to the Washington Utilities and Transportation Commission and the Public Utility Commission of Oregon.

Comment date: February 3, 2000, in accordance with Standard Paragraph E at the end of this notice.

15. The Montana Power Company

[Docket No. ER00-1106-000]

Take notice that on January 14, 2000, The Montana Power Company (Montana) tendered for filing with the Federal Energy Regulatory Commission (Commission), pursuant to Part 35 of the Commission's Regulations (18 CFR Part 35), an unexecuted Network Integration Transmission Service Agreement and Network Operating Agreement with Big Horn County Electric Cooperative, Inc., under Montana's FERC Electric Tariff, Fourth Revised Volume No. 5 (Open Access Transmission Tariff).

A copy of the filing was served upon Big Horn County Electric Cooperative, Inc.

Montana requests that the Service Agreement become effective December 15, 1999.

Comment date: February 3, 2000, in accordance with Standard Paragraph E at the end of this notice.

16. PECO Energy Company

[Docket No. ER00-1107-000]

Take notice that on January 14, 2000, PECO Energy Company (PECO) filed under Section 205 of the Federal Power Act, 16 U.S.C. S 792 et seq., an Agreement dated January 13, 2000 with Illinois Municipal Electric Agency (IMEA) under PECO's FERC Electric Tariff Original Volume No. 1 (Tariff).

PECO requests an effective date of January 13, 2000, for the Agreement.

PECO states that copies of this filing have been supplied to Illinois Municipal Electric Agency and to the Pennsylvania Public Utility Commission.

Comment date: February 3, 2000, in accordance with Standard Paragraph E at the end of this notice.

17. CP Power Sales Four, L.L.C.

[Docket No. ER00-1108-000]

Take notice that on December 20, 1999, CL Power Sales Five, L.L.C., tendered for filing Notice of Succession on behalf of CL Power Sales Four, L.L.C., effective December 1, 1999, CL Power Sales Four, L.L.C., changed its name to CP Power Sales Four, L.L.C.

Comment date: February 1, 2000, in accordance with Standard Paragraph E at the end of this notice.

18. Dynegy Power Marketing, Inc.

[Docket No. ER00-1109-000]

Take notice that on January 14, 2000, Dynegy Power Marketing, Inc. (Dynegy), tendered for filing pursuant to Rule 205, 18 CFR 385.205, revisions to its rate schedule related to resales of firm transmission rights in compliance with the Commission's order in California Independent System Operator Corp., 89 FERC ¶ 61,153 (1999).

Dynegy requests waiver of the Commission's 60-day prior notice requirement in order to permit their respective revisions to become effective on January 15, 2000.

Comment date: February 3, 2000, in accordance with Standard Paragraph E at the end of this notice.

19. Consumers Energy Company

[Docket No. ER00-1110-000]

Take notice that on January 14, 2000, Consumers Energy Company (Consumers), tendered for filing an executed service agreement for Firm Point-to-Point Transmission Service with PECO Energy Company. The agreement was pursuant to the Joint Open Access Transmission Service Tariff filed on December 31, 1996 by Consumers and Detroit Edison Company (Detroit Edison) and has an effective date of January 1, 2000.

Copies of the filed agreement were served upon the Michigan Public Service Commission, Detroit Edison, and PECO Energy Company.

Comment date: February 3, 2000, in accordance with Standard Paragraph E at the end of this notice.

20. Illinova Power Marketing, Inc.

[Docket no. ER00-1111-000]

Take notice that on January 14, 2000, Illinova Power Marketing, Inc. (IPMI), tendered for filing Electric Power Transaction Service Agreements under which certain customers will take service pursuant to IPMI's power sales tariff, Rate Schedule FERC No. 1.

Comment date: February 3, 2000, in accordance with Standard Paragraph E at the end of this notice.

21. Duke Energy Merchants, L.L.C.

[Docket No. ER00-1112-000]

Take notice that on January 14, 2000, Duke Energy Merchants, L.L.C. (DEM), tendered for filing pursuant to Section 205 of the Federal Power Act a revised Rate Schedule FERC No. 1 in compliance with the Commission's November 10, 1999 order, California Indep. System Operator Corp., 89 ¶ 61,153 (1999) and pursuant to Section 205 of the Federal Power Act and Part 35 of the Commission's regulations, providing for the resale of firm transmission rights issued by the California Independent System Operator Corporation.

DEM is a power marketer authorized by the Commission to sell electric energy and capacity at market-based rates. DEM requests waiver of the prior notice requirement of the Commission's regulations and seeks an effective date of February 1, 2000 for its revised Rate Schedule FERC No. 1.

Comment date: February 3, 2000, in accordance with Standard Paragraph E at the end of this notice.

22. Duke Energy Trading And Marketing, L.L.C.

[Docket No. ER00-1113-000]

Take notice that on January 14, 2000, Duke Energy Trading and Marketing, L.L.C. (DETM), tendered for filing pursuant to Section 205 of the Federal Power Act a revised Rate Schedule FERC No. 1 in compliance with the Commission's November 10, 1999 order, California Indep. System Operator Corp., 89 FERC ¶ 61,153 (1999) and pursuant to Section 205 of the Federal Power Act and Part 35 of the Commission's Regulations, providing for the resale of firm transmission rights issued by the California Independent System Operator Corporation.

DETM is a power marketer authorized by the Commission to sell electric energy and capacity at market-based rates. DETM requests waiver of the prior notice requirement of the Commission's regulations and seeks an effective date of February 1, 2000 for its revised Rate Schedule FERC No. 1.

Comment date: February 3, 2000, in accordance with Standard Paragraph E at the end of this notice.

23. West Texas Utilities Company

[Docket No. ER00-1114-000]

Take notice that on January 14, 2000, West Texas Utilities Company (WTU), tendered for filing ten (10) individual letter agreements, dated March 19, 1998 (Letter Agreements) with the following customers: Coleman County Electric Cooperative, Inc.; Concho Valley Electric Cooperative, Inc.; Golden Spread Electric Cooperative, Inc.; Kimble Electric Cooperative, Inc.; Lighthouse Electric Cooperative, Inc.; Midwest Electric Cooperative, Inc. (Midwest); Rio Grande Electric Cooperative, Inc.; Stamford Electric Cooperative, Inc. (Stamford); Southwest Texas Electric Cooperative, Inc.; and Taylor Electric Cooperative, Inc., (collectively, the Mid-Tex Group). The Letter Agreements are supplements to WTU's Wholesale Power Choice Tariff (WPC Tariff), WTU FERC Tariff No. 9.

WTU seeks an effective date of January 1, 2000 and, accordingly, seeks waiver of the Commission's notice requirements.

Copies of the filing have been served on all members of the Mid-Tex Group and the Public Utility Commission of Texas.

Comment date: February 3, 2000, in accordance with Standard Paragraph E at the end of this notice.

24. Calpine Construction Finance Company, L.P.

[Docket No. ER00-1115-000]

Take notice that on January 14, 2000, Calpine Construction Finance Company, L.P. (CCFC), tendered for filing, under Section 205 of the Federal Power Act and Part 35 of the Commission's Regulations, a petition for order accepting initial rate schedule for the sale of energy, capacity, replacement reserves at market-based rates, and for the waiver of certain Commission regulations and blanket authorization of others. CCFC also requests authority, and its proposed rate schedule provides for it, to sell certain ancillary services into the California markets administered by the California Independent System Operator, the New York Power Pool markets administered by the New York Independent System Operator, the Pennsylvania-New Jersey-Maryland Interchange Energy Market, and the New England Power Pool markets administered by ISO New England, Inc. CCFC is an indirect wholly owned subsidiary of Calpine Corporation.

Comment date: February 3, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-1908 Filed 1-26-00; 8:45 am]

BILLING CODE 6717-01-P